DEPARTMENT OF HEALTH AND HUMAN SERVICES

Health Resources and Services Administration

National Advisory Council on the National Health Service Corps Notice of Meeting

In accordance with section 10(a)(2) of the Federal Advisory Committee Act (Pub. L. 92-463), notice is hereby given of the following meeting:

Name: National Advisory Council on the National Health Service Corps (NHSC).

Dates and Times: November 1, 2012—8:30 a.m.-4:30 p.m., November 2, 2012—8:00 a.m.-12:00 p.m.

Place: Health Resources and Services Administration (HRSA), Parklawn Building (and via audio conference call), 5600 Fishers Lane, Room 16-49, Rockville, MD 20857.

Status: The meeting will be open to the public.

Agenda: The Council is convening in Rockville, Maryland, to hear HRSA and NHSC program updates and discuss NHSC's retention strategy and inter-agency workforce efforts. A portion of the meeting will be open for public comment and questions on November 2.

The public can join the meeting via audio conference call on the dates and times specified above using the following information: Dial-in number: 1-888-455-9651; Passcode: 7699967.

For Further Information Contact: Njeri Jones, Bureau of Clinician Recruitment and Service, Health Resources and Services Administration, Parklawn Building, Room 13-64, 5600 Fishers Lane, Rockville, Maryland 20857; email: NJones@hrsa.gov; Telephone: 301-443-2541.

Dated: October 5, 2012.
Bahar Niakan,
Director, Division of Policy and Information Coordination.

[FR Doc. 2012-25192 Filed 10-11-12; 8:45 am]

BILLING CODE 4165-15-P